DEPARTMENT OF ENERGY

Federal Energy Regulatory Commission

Combined Notice of Filings #1

Take notice that the Commission received the following electric corporate filings:

Docket Numbers: EC24-127-000.

Applicants: Great Plains Windpark Legacy, LLC, Marathon Digital Holdings, Inc.

Description: Application for Authorization Under Section 203 of the Federal Power Act of Great Plains Windpark Legacy, LLC.

Filed Date: 9/27/24.

Accession Number: 20240927-5302.

Comment Date: 5 p.m. ET 10/18/24.

Take notice that the Commission received the following Complaints and Compliance filings in EL Dockets:

Docket Numbers: EL24-149-000.

Applicants: Baltimore Gas & Electric Company, PECO Energy Company.

Description: Petition for Declaratory Order of Baltimore Gas & Electric Company and PECO Energy Company.

Filed Date: 9/30/24.

Accession Number: 20240930-5354.

Comment Date: 5 p.m. ET 10/30/24.

Take notice that the Commission received the following electric rate filings:

Docket Numbers: ER24-1761-001.

Applicants: Harmony Florida Solar II, LLC.

Description: Tariff Amendment: Response to Deficiency Letter (ER24-1761) to be effective 8/15/2024.

Filed Date: 10/2/24.

Accession Number: 20241002-5179.

Comment Date: 5 p.m. ET 10/16/24.

Docket Numbers: ER24-1762-001.

Applicants: Storey Bend Solar, LLC.

Description: Tariff Amendment: Response to Deficiency Letter (ER24-1762) to be effective 8/15/2024.

Filed Date: 10/2/24.

Accession Number: 20241002-5168.

Comment Date: 5 p.m. ET 10/16/24.

Docket Numbers: ER24-1763-002.

Applicants: FRP Tupelo Solar, LLC.

Description: Tariff Amendment: Response to Deficiency Letter (ER24-1763) to be effective 8/15/2024.

Filed Date: 10/2/24.

Accession Number: 20241002-5171.

Comment Date: 5 p.m. ET 10/16/24.

Docket Numbers: ER24-2072-002.

Applicants: The Empire District Electric Company, Southwest Power Pool, Inc.

Description: Compliance filing: Southwest Power Pool, Inc. submits tariff filing per 35: The Empire District Electric Company's Second Amended Order No. 864 Comp. Filing to be effective 1/27/2020.

Filed Date: 10/1/24.

Accession Number: 20241001-5387.

Comment Date: 5 p.m. ET 10/22/24.

Docket Numbers: ER24-2824-002.

Applicants: RE Papago LLC.

Description: Tariff Amendment: Supplement to Application for Market-Based Rate Authority to be effective 10/22/2024.

Filed Date: 10/1/24.

Accession Number: 20241001-5357.

Comment Date: 5 p.m. ET 10/22/24.

Docket Numbers: ER24-3160-000.

Applicants: New England Power Company.

Description: Notice of Cancellation of Service Agreements of New England Power Company.

Filed Date: 9/27/24.

Accession Number: 20240927-5304.

Comment Date: 5 p.m. ET 10/18/24.

Docket Numbers: ER24-3161-000.

Applicants: Pacific Gas and Electric Company.

Description: Notice of Termination of Transmission Owner Service Agreement No. 28 with Metcalf Energy Center, LLC of Pacific Gas and Electric Company.

Filed Date: 9/18/24.

Accession Number: 20240918-5173.

Comment Date: 5 p.m. ET 10/9/24.

Docket Numbers: ER25-8-000.

Applicants: Southwest Power Pool, Inc.

Description: § 205(d) Rate Filing: 4330 OG&E GIA to be effective 9/23/2024.

Filed Date: 10/2/24.

Accession Number: 20241002-5016.

Comment Date: 5 p.m. ET 10/23/24.

Docket Numbers: ER25-9-000.

Applicants: Midcontinent Independent System Operator, Inc.

Description: § 205(d) Rate Filing: 2024-10-02_SA 4358 ATC-Marathon Wind Farm GIA (J1508) to be effective 9/23/2024.

Filed Date: 10/2/24.

Accession Number: 20241002-5033.

Comment Date: 5 p.m. ET 10/23/24.

Docket Numbers: ER25-10-000.

Applicants: American Transmission Systems, Incorporated, PJM Interconnection, L.L.C.

Description: § 205(d) Rate Filing: American Transmission Systems, Incorporated submits tariff filing per 35.13(a)(2)(iii: ATSI submits Construction Agmnts, SA No. 7207, 7223, 7225 to be effective 12/2/2024.

Filed Date: 10/2/24.

Accession Number: 20241002-5149.

Comment Date: 5 p.m. ET 10/23/24.

Docket Numbers: ER25-11-000.

Applicants: Basin Electric Power Cooperative.

Description: § 205(d) Rate Filing: Basin Electric Power Cooperative, Submission of Revised Rate Schedule A to be effective 1/1/2025.

Filed Date: 10/2/24.

Accession Number: 20241002-5174.

Comment Date: 5 p.m. ET 10/23/24.

Docket Numbers: ER25-12-000.

Applicants: Dynegy Energy Services Mid-Atlantic, LLC.

Description: § 205(d) Rate Filing: Notice of Succession and Revised MBR Tariff to be effective 10/3/2024.

Filed Date: 10/2/24.

Accession Number: 20241002-5191.

Comment Date: 5 p.m. ET 10/23/24.

Docket Numbers: ER25-13-000.

Applicants: American Transmission Systems, Incorporated, PJM Interconnection, L.L.C.

Description: § 205(d) Rate Filing: American Transmission Systems, Incorporated submits tariff filing per 35.13(a)(2)(iii: ATSI submits Construction Agmnts, SA No. 7214 and 7215 to be effective 12/2/2024.

Filed Date: 10/2/24.

Accession Number: 20241002-5196.

Comment Date: 5 p.m. ET 10/23/24.

Docket Numbers: ER25-14-000.

Applicants: PJM Interconnection, L.L.C.

Description: Tariff Amendment: Notice of Cancellation of ISA, SA No. 7067; Queue No. AF1-146/AF2-322 to be effective 12/2/2024.

Filed Date: 10/2/24.

Accession Number: 20241002-5204.

Comment Date: 5 p.m. ET 10/23/24.

Docket Numbers: ER25-15-000.

Applicants: Pacific Gas and Electric Company.

Description: § 205(d) Rate Filing: Balancing Accounts Update 2025 (TRBAA, RSBAA, ECRBAA) to be effective 1/1/2025.

Filed Date: 10/2/24.

Accession Number: 20241002-5205.

Comment Date: 5 p.m. ET 10/23/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 2, 2024.
Debbie-Anne A. Reese,
Acting Secretary.

[FR Doc. 2024-23304 Filed 10-8-24; 8:45 am]

BILLING CODE 6717-01-P